DEPARTMENT OF COMMERCE

Bureau of the Census

[Docket Number 030619157-0157-01]

Discontinuance of the Whole-Block Count Program for Certifying Population and Housing Unit Counts Resulting from Boundary Changes Since Census 2000

AGENCY: Bureau of the Census, Department of Commerce.

ACTION: Notice of termination of temporary program.

SUMMARY: The Bureau of the Census (Census Bureau) publishes this notice to announce the termination of the Whole-Block Count Program, which was the temporary method of certification offered from June 1, 1998, to January 3, 2003. The Census Bureau terminates the Whole-Block Count Program due to the implementation of the Geographically Updated Population Certification Program. This new program is the Census Bureau's update service for certifying population and housing unit counts for areas where the boundaries have changed from those used to tabulate the immediately preceding decennial census.

DATES: The Census Bureau terminates the Whole-Block Count Program as of July 10, 2003.

FOR FURTHER INFORMATION CONTACT: Dorothy Stroz, Geography Division, U.S. Census Bureau, Washington, DC 20233, telephone (301) 763-9050, or e-mail dorothy.louise.stroz@census.gov.

SUPPLEMENTARY INFORMATION: Since the 1970 decennial census, and following every decennial census thereafter, the Census Bureau has provided the opportunity for county, local, and tribal governments to obtain certified population and housing unit counts for areas where their boundaries have changed from those used to tabulate the immediately preceding decennial census. Such boundary changes are the result of annexations, incorporations, or mergers of existing governmental units, which typically include counties, boroughs, cities, towns, villages, townships, and federally recognized American Indian reservations.

The Census Bureau earlier issued a notice of final rulemaking in the Federal Register on this subject (67 FR 72095; December 4, 2002). This rule established the Geographically Updated Population Certification Program as the official process for providing geographically updated population certifications (see Title 15 CFR §50.60). It also amended Title 15, Code of Federal Regulations, to provide further detail on the subject of intercensal geographic certifications. Since this new program replaces the Whole-Block Count Program in its entirety, the Census Bureau is terminating the Whole-Block Count Program. The program was temporary in nature and not required by any law.

Dated: July 2, 2003.
Charles Louis Kincannon,
Director, Bureau of the Census.

[FR Doc. 03-17195 Filed 7-9-03; 8:45 am]

BILLING CODE 3510-07-P